POSTAL SERVICE

First-Class Mail and USPS Marketing Mail Growth Incentive

AGENCY: Postal Service™.

ACTION: Notice.

SUMMARY: The Postal Service is providing notice that it has filed with the Postal Regulatory Commission a market dominant price change creating two new incentives.

DATES: August 21, 2023.

FOR FURTHER INFORMATION CONTACT: Steven Mills, Director Product Management (Mailing Svcs.) at (202) 268-7433.

SUPPLEMENTARY INFORMATION: On August 11, 2023, the United States Postal Service® filed with the Postal Regulatory Commission a notice of market dominant price change creating two new incentives.

As indicated in the filing, the Postal Service will offer two new incentives designed to promote the growth of First-Class Mail® (the “First-Class Mail Growth Incentive”) and USPS Marketing Mail® (the “Marketing Mail Growth Incentive”). The effective dates of both incentives is January 1, 2024, and the incentive period runs through December 31, 2024. Qualifying Market Dominant products eligible for the incentive are: First-Class Mail Presort Letters, First-Class Mail Presort Cards, First-Class Mail Presort Flats, USPS Marketing Mail Letters and High Density/Saturation Letters, USPS Marketing Mail Flats and High Density/Saturation Flats, USPS Marketing Mail Carrier Route Letters and Flats, and USPS Marketing Mail and Saturation Parcels.

Documents pertinent to this notice are available at http://www.prc.gov under docket number R2023-3 and on the daily docket for August 11, 2023.

Sarah Sullivan,
Attorney, Ethics & Legal Compliance.

[FR Doc. 2023-17865 Filed 8-18-23; 8:45 am]

BILLING CODE 7710-12-P